DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The Ryan White CARE Act Client Demonstration Project Reporting System: NEW The Client Demonstration Project was established in 1994 to collect information from several Title I and Title II grantees and their subcontracted service providers about their individual clients. Demographic information, service utilization, and health indicators of all clients receiving services at providers funded by the Ryan White Comprehensive AIDS Resources Emergency (CARE) Act are collected twice each year. A unique identifier is used to protect the anonymity of the clients, and as a further safeguard, this unique identifier is encrypted before it is sent to HRSA.

HRSA initiated the CDP to demonstrate (1) the feasibility of collecting client level demographic and service data on HIV/AIDS infected/affected clients across a network of service providers and (2) the usefulness of these data for planning and evaluation purposes at both the local and national levels. Through this system, HRSA sought to overcome the limitations of the Annual Administrative Report (AAR), the national reporting system for the Ryan White CARE Act. The AAR collects data aggregated at the grantee level and has duplicated counts of clients. The number of clients reported in the AAR overestimates the true number of clients. In addition, AAR data are not tied to any clinical or service outcome information at the client level. The feasibility of collecting client data has been demonstrated. The usefulness of these data for planning and evaluation purposes at both the local and national level has become increasingly evident. A number of client level analyses that were not possible with the AAR have been undertaken.

In addition to meeting the goal of accountability to Congress, clients, advocacy groups, and the general public, the CDP supports critical efforts by HRSA, state and local grantees, and providers to assess the health outcomes and the service utilization patterns of the individuals at these sites who are infected or affected by HIV/AIDS and receive care at a provider funded by the Ryan White CARE Act.

Outcome specific and treatment measures are collected in the data system. These data elements seek to document whether current standards of care as established by the Public Health Service are being adhered to at these Ryan White CARE Act facilities. The core set of data elements are largely unchanged from the AAR. Minor changes in the demographic data elements have been made as a result of meetings and input from the current grantees and their providers.

The estimated response burden is as follows:

Medical records source | Number of respondents | Responses per respondent | Total responses | Burden hour | Total burden hours
Providers with < 260 Clients | 160 | 83 | 13,280 | .5 | 6,640
Providers with >/= 260 Clients | 42 | 929 | 39,018 | .5 | 19,509
Total | 202 | 52,298 |  |  | 26,149

Written comments and recommendations concerning the proposed information collection should be sent within 30 days of this notice to: Wendy A. Taylor, Human Resources and Housing Branch, Office of Management and Budget, New Executive Office Building, Room 10235, Washington, DC, 20503.

Dated: April 24, 2000.
Jane Harrison,
Director, Division of Policy Review and Coordination.

[FR Doc. 00-10632 Filed 4-27-00; 8:45 am]

BILLING CODE 4160-15-P